DEPARTMENT OF COMMERCE

National Oceanic and Atmospheric Administration

Proposed Information Collection; Comment Request; Marine Recreational Information Program (Marine Recreational Fisheries Statistics Survey)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 3, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Rob Andrews, (301) 713-2328 or Rob.Andrews@noaa.gov.

SUPPLEMENTARY INFORMATION:

I. Abstract

This submission is a renewal of an existing information collection.

Marine recreational anglers are surveyed for catch and effort data, fish biology data, and angler socioeconomic characteristics. These data are required to carry out provisions of the Magnuson-Stevens Fishery Conservation and Management Act (MSA, 16 U.S.C. 1801 et seq.), as amended, regarding conservation and management of fishery resources.

Marine recreational fishing catch and effort data are currently collected through a combination of telephone surveys and on-site intercept surveys with recreational anglers and for-hire vessel operators. Recent amendments to the MSA require the development of an improved data collection program for recreational fisheries. To address these requirements, NOAA Fisheries has implemented the Marine Recreational Information Program (MRIP) to replace the Marine Recreational Fisheries Statistics Survey. MRIP is testing alternative approaches for surveying recreational anglers in an effort to improve the quality, resolution and timeliness of recreational fishing statistics.

II. Method of Collection

Information will be collected through telephone, mail, online (Web), and face-to-face interviews.

III. Data

OMB Control Number: 0648-0052.

Form Number: None.

Type of Review: Regular submission (renewal of an existing information collection).

Affected Public: Individuals or households, business or other for-profit organizations.

Estimated Number of Respondents: 1,098,647.

Estimated Time per Response: 1.5 minutes for household telephone interviews, 6 minutes for telephone interviews with licensed anglers, 5 minutes for telephone interviews with party/charter boat operators, 6 minutes for face-to-face interviews with intercepted anglers, 4 minutes for household mail surveys, 7 minutes for mail surveys of licensed anglers, 60 minutes for face-to-face economic surveys with party/charter boat operators, 30 minutes for economic mail surveys of party/charter boat operators, 3 minutes for economic mail surveys of licensed anglers, 20 minutes for mail expenditure surveys, 20 minutes for mail stated preference surveys, 1.5 minutes for verification calls.

Estimated Total Annual Burden Hours: 91,296.

Estimated Total Annual Cost to Public: $0.

IV. Request for Comments

Comments Are Invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 29, 2010.
Gwellnar Banks,
Management Analyst, Office of the Chief Information Officer.

[FR Doc. 2010-27826 Filed 11-3-10; 8:45 am]

BILLING CODE 3510-22-P